DEPARTMENT OF THE INTERIOR

National Park Service

[NPS-WASO-NAGPRA-16699; PPWOCRADN0-PCU00RP14.R50000]

Notice of Intent To Repatriate Cultural Items: U.S. Department of the Interior, National Park Service, Wupatki National Monument, Flagstaff, AZ

AGENCY: National Park Service, Interior.

ACTION: Notice.

SUMMARY: The U.S. Department of the Interior, National Park Service, Wupatki National Monument, in consultation with the appropriate Indian tribes or Native Hawaiian organizations, has determined that the cultural items listed in this notice meet the definition of unassociated funerary objects. Lineal descendants or representatives of any Indian tribe or Native Hawaiian organization not identified in this notice that wish to claim these cultural items should submit a written request to Wupatki National Monument. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to Wupatki National Monument at the address in this notice by November 17, 2014.

ADDRESSES: Kayci Cook Collins, Superintendent, Flagstaff Area National Monuments, National Park Service, 6400 N. Hwy 89, Flagstaff, AZ 86004, (928) 526-1157 ext. 227, email Kayci_Cook@nps.gov.

SUPPLEMENTARY INFORMATION: Notice is here given in accordance with the Native American Graves Protection and Repatriation Act (NAGPRA), 25 U.S.C. 3005, of the intent to repatriate cultural items under the control of the U.S. Department of the Interior, National Park Service, Wupatki National Monument, Flagstaff, AZ, that meet the definition of unassociated funerary objects under 25 U.S.C. 3001.

This notice is published as part of the National Park Service's administrative responsibilities under NAGPRA, 25 U.S.C. 3003(d)(3). The determinations in this notice are the sole responsibility of the Superintendent, Wupatki National Monument.

History and Description of the Cultural Item(s)

In 1933, 730 cultural items were removed from Wupatki Pueblo, within Wupatki National Monument in Coconino County, AZ, during an authorized excavation conducted by the Museum of Northern Arizona. Records indicate that all of the items were recovered from burials and that the human remains were not collected. All of the items are in the physical custody of the Museum of Northern Arizona in Flagstaff, AZ. The 730 unassociated funerary objects are 2 knotted twig fragments, 534 pottery sherds, 1 stone flake, 1 bag rotted wood, 4 pieces rotted wood, 2 shell bracelets, 2 fragments painted wood, 1 worked stone, 2 stone cylinders, 2 projectile points, 23 pendants, 1 Black Mesa black-on-white bowl, 1 Black Mesa black-on-white miniature pitcher, 1 Tusayan black-on-white bowl fragment, 1 turquoise figurine, 63 shell beads, 2 Sunset red jars, 1 Lino gray jar, 1 Lino black-on-gray bowl, 1 Youngs red smudged bowl, 1 Elden corrugated jar, 3 Sunset red bowls, 1 bone awl, 4 Sunset smudged bowls, 2 Flagstaff black-on-white bowl fragments, 5 Walnut black-on-white bowl fragments, 1 Chevelon black-on-white bowl fragment, 1 Tusayan polychrome bowl fragment, 1 Kana-a gray jar fragment, 1 Flagstaff black-on-white miniature jar, 1 Tusayan corrugated jar, 2 Tusayan black-on-red jars, 3 cocoons, 1 shell necklace, 1 Mogollon brownware bowl, and 56 basket fragments.

In 1934, 18 cultural items were removed from Nalakihu Pueblo, within Wupatki National Monument in Coconino County, AZ, during an authorized excavation conducted by the Museum of Northern Arizona. Records indicate that all of the items were recovered from burials and that the human remains were not collected. All of the items are in the physical custody of the Museum of Northern Arizona in Flagstaff, AZ. The 18 unassociated funerary objects are 17 pottery sherds and 1 Sunset red bowl.

In 1952, one cultural item was removed from Wupatki Pueblo, within Wupatki National Monument in Coconino County, AZ, during authorized excavations incidental to stabilization of the pueblo. Records indicate that the item was recovered from a burial and that the human remains were not collected. The item is in the physical custody of the Museum of Northern Arizona in Flagstaff, AZ. The one unassociated funerary object is a stone necklace.

In 1965, six cultural items were removed from Wupatki Pueblo, within Wupatki National Monument in Coconino County, AZ, by a National Park Service archeologist. Records indicate that the items were recovered from a burial and that the human remains were not collected. The items are in the physical custody of the Museum of Northern Arizona in Flagstaff, AZ. The six unassociated funerary objects are painted wooden staff fragments.

In 1986, one cultural item was removed from site WS 1953, within Wupatki National Monument in Coconino County, AZ, during an authorized survey of the monument. Records indicate that the item was recovered from a burial and that the human remains were not collected. The one unassociated funerary object is a Tusayan polychrome bowl.

On the basis of architecture and artifacts, Wupatki Pueblo is dated to A.D. 900-1300 and Nalakihu Pueblo is dated to A.D. 1150-1300. On the basis of artifacts, WS 1953 is dated to A.D. 1050-1250.

Evidence demonstrating continuity between the people of Wupatki Pueblo, Nalakihu Pueblo, and WS 1953 from A.D. 900-1300 and the Hopi Tribe of Arizona includes similarities in material culture, architecture, mortuary practices, settlement patterns, and agricultural methods. Hopi oral history indicates connections to the people of Wupatki and Nalakihu Pueblos and numerous Hopi clans can be traced to Wupatki Pueblo.

Determinations Made by Wupatki National Monument

Officials of Wupatki National Monument have determined that:

• Pursuant to 25 U.S.C. 3001(3)(B), the 756 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Hopi Tribe of Arizona.

Additional Requestors and Disposition

Lineal descendants or representatives of any Indian tribe or Native Hawaiian organization not identified in this notice that wish to claim these cultural items should submit a written request with information in support of the claim to Kayci Cook Collins, Superintendent, Wupatki National Monument, 6400 N. Hwy 89, Flagstaff, AZ 86004, (928) 526-1157 ext. 227, email Kayci_Cook@nps.gov, by November 17, 2014. After that date, if no additional claimants have come forward, transfer of control of the unassociated funerary objects to the Hopi Tribe of Arizona may proceed.

Wupatki National Monument is responsible for notifying the Hopi Tribe of Arizona that this notice has been published.

Dated: September 24, 2014.
Melanie O'Brien,
Acting Manager, National NAGPRA Program.

[FR Doc. 2014-24524 Filed 10-15-14; 8:45 am]

BILLING CODE 4312-50-P